DEPARTMENT OF STATE

[Public Notice 7556]

Certification Related to the Khmer Rouge Tribunal

Pursuant to the authority vested in the Secretary of State, including under Section 7071 (c) of the Department of State, Foreign Operations, and Related Programs Appropriations Act, 2010 (Division F, Pub. L. 111-117), as carried forward by Full-Year Continuing Appropriations Act, 2011 (Div. B, Pub. L. 112-10), and Delegation of Authority 245-1, I hereby certify that the United Nations and Government of Cambodia are taking credible steps to address allegations of corruption and mismanagement within the Extraordinary Chambers in the Courts of Cambodia (also known as the “Khmer Rouge Tribunal”).

This Certification and related Memorandum of Justification shall be provided to the appropriate committees of the Congress and published in the Federal Register.

Dated:July 29, 2011.
Thomas R. Nides,
Deputy Secretary for Management and Resources.

[FR Doc. 2011-20846 Filed 8-15-11; 8:45 am]

BILLING CODE 4710-30-P